DEPARTMENT OF VETERANS AFFAIRS

Notice of Availability of a Final Environmental Impact Statement for a Replacement Robley Rex Veterans Affairs Medical Center, Louisville, Kentucky

AGENCY: Department of Veterans Affairs.

ACTION: Notice of availability.

SUMMARY: The Department of Veterans Affairs (VA) announces the availability of the Final Environmental Impact Statement (EIS) for the siting, construction, and operation of a new campus to replace the existing Robley Rex VA Medical Center (VAMC), Veterans Benefits Administration (VBA) regional office, and three community-based outpatient clinics (CBOC) in Louisville, Kentucky. Pursuant to the National Environmental Policy Act (NEPA) of 1969, as amended, the Council on Environmental Quality's (CEQ's) regulations for implementing the procedural provisions of NEPA, and VA's NEPA regulations titled “Environmental Effects of the Department of Veterans Affairs Actions,” VA has considered comments received on the Draft EIS, which was issued in October 2016 and identifies VA's preferred alternative in the Final EIS.

DATES: VA will publish a Record of Decision no sooner than 30 days after publication of the U.S. Environmental Protection Agency's Notice of Availability in the Federal Register.

ADDRESSES: The 2017 Final EIS is available for viewing on the Web site www.louisville.va.gov/newmedicalcenter/. Copies are also available at the St. Matthews and Westport Branches of the Louisville Free Public Library located at 3940 Grandview Avenue, Louisville, KY 40207 and 8100 Westport Road, Louisville, KY 40222.

FOR FURTHER INFORMATION CONTACT: Replacement VAMC Activation Team Office, 800 Zorn Avenue, Louisville, KY 40206 or by email to LouisvilleReplacementHospitalComments@va.gov.

SUPPLEMENTARY INFORMATION: VA plans to site, construct, and operate a VAMC and VBA regional office to replace the existing Robley Rex VAMC located on Zorn Avenue in Louisville, KY. The existing 63-year-old VAMC facilities have reached the end of their serviceable lives and need to be replaced. The existing building conditions and site configuration are inadequate to effectively and efficiently meet the expanding needs of VA's health care mission in the region. The replacement campus will include diagnostic and treatment facilities and required site amenities and improvements needed to provide sufficient capacity to meet the current and projected future health care needs of Veterans in the Louisville service area.

In the Final EIS, VA has analyzed the environmental impacts of three alternatives for the replacement VAMC. Alternative A proposes construction and operation of a replacement VAMC campus at the Brownsboro Site at 4906 Brownsboro Road, Louisville, KY. Alternative B would construct and operate a replacement VAMC campus at the St. Joseph site on a parcel located east of I-265 and south of Factory Lane in Louisville, KY. Alternative C is the No Action alternative, which would consist of not constructing and operating a new replacement VAMC and VBA but continuing to operate the existing Louisville VAMC at 800 Zorn Avenue, all eight CBOCs and the VBA regional office at 321 West Main Street. The No Action alternative is required by NEPA and its regulations and also provided a baseline for comparing potential impacts from the action alternatives.

VA's preferred alternative is Alternative A, the construction and operation of a replacement VAMC campus at the Brownsboro Site at 4906 Brownsboro Road, in Louisville, KY. VA will relocate medical facility operations to the Brownsboro Site from Zorn Avenue and a later process will evaluate the future use or disposition of the Zorn Avenue property.

Environmental topics addressed in the Final EIS include aesthetics, air quality, cultural resources, geology and soils, hydrology and water quality, wildlife and habitat, noise, land use, floodplains and wetlands, socioeconomics, community services, solid waste and hazardous materials, transportation and parking, utilities, and environmental justice.

Best management practices and mitigation measures that could alleviate environmental effects have been considered and are included where relevant within the Final EIS. Unavoidable adverse impacts include effects to air quality, aesthetics, noise, land use, solid waste and hazardous materials, utilities, and transportation and traffic. With the exception of aesthetics and land use, implementation of specified mitigation measures, including the Kentucky Transportation Cabinet's planned construction (2019) of the single point urban interchange (SPUI) at the KY 22 Brownsboro site location, would substantially decrease the magnitude of these impacts.

The Final EIS considers comments on the Draft EIS, including those submitted during the public comment period that officially began on October 27, 2016, and ended on January 11, 2017, following a 30-day comment period extension that VA determined was sufficient in response to requests from the public for a 60-day extension.

The 2017 Replacement Robley Rex VAMC Final EIS is available for viewing on the VA Web site at www.louisville.va.gov/newmedicalcenter/ and at the St. Matthews and Westport Branches of the Louisville Free Public Library located at 3940 Grandview Avenue, Louisville, KY 40207 and 8100 Westport Road, Louisville, KY 40222, respectively. Information related to the EIS process is also available for viewing on the VA Web site at www.louisville.va.gov/newmedicalcenter/.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on April 21, 2017, for publication.

Dated: April 21, 2017.
Jeffrey Martin,
Office Program Manager, Office of Regulation Policy & Management, Office of the Secretary, Department of Veterans Affairs.

[FR Doc. 2017-08562 Filed 4-27-17; 8:45 am]

BILLING CODE 8320-01-P